DEPARTMENT OF DEFENSE

Department of the Army

Record of Decision on the Final Environmental Impact Statement (FEIS) on the Disposal and Reuse of the Oakland Army Base, Oakland, CA

AGENCY: Department of the Army, DoD.

ACTION: Record of decision.

SUMMARY: The Department of the Army announces its Record of Decision on the FEIS for the disposal and reuse of the Oakland Army BASE. The closure of Oakland Army BASE was mandated in accordance with the Defense BASE Closure and Realignment Act of 1990, Public Law 101-510, as amended.

The Record of Decision allows the Army to initiate action to dispose of the excess/surplus property at Oakland Army BASE, in accordance with the Oakland BASE Reuse Authority Amended Draft Final Reuse Plan for the Oakland Army BASE.

ADDRESSES: A copy of the Record of Decision may be obtained by contacting Mr. Chuck Hubbard, U.S. Army Corps of Engineers, U.S. Army Engineer District, Sacramento, (CESPK-PD), 1325 J Street, Sacramento, CA 95814-2922.

FOR FURTHER INFORMATION CONTACT: Mr. Chuck Hubbard at (916) 557-6958 and or by facsimile at (916) 557-7866.

SUPPLEMENTARY INFORMATION: The FEIS analyzes three disposal alternatives with respect to the disposal and subsequent reuse of the 426-acre (approximately 370 acres unsubmerged and 56 acres submerged) comprising the Oakland Army BASE: (1) The no action alternative, under which the property would be maintained in a caretaker status after closure; (2) the unencumbered disposal alternative, under which the Army would transfer the property without use restrictions, such as environmental covenants, land use controls, and easements; and (3) the encumbered disposal alternative, under which the Army would transfer the property with various use restrictions which run with the land and limit future use.

In the Record of Decision, the Army concludes that the FEIS adequately addresses the impacts of property disposal and documents its decision to transfer the property as encumbered. Possible encumbrances include: covenants and restrictions for asbestos-containing material, lead-BASEd paint, wildlife habitat protection, access easements and rights-of-way.

Dated: June 6, 2002.
Raymond J. Fatz,
Deputy Assistant Secretary of the Army, (Environment, Safety and Occupational Health), OASA (I&E).

[FR Doc. 02-15005 Filed 6-13-02; 8:45 am]

BILLING CODE 3710-08-M